DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with December anniversary dates. In accordance with Commerce's regulations, we are initiating those administrative reviews.

DATES: Applicable February 20, 2026.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with December anniversary dates.

All deadlines for the submission of various types of information, certifications, comments, or actions by Commerce discussed below refer to the number of calendar days from the applicable starting time.

Respondent Selection

In the event that Commerce limits the number of respondents for individual examination for administrative reviews initiated pursuant to requests made for the orders identified below, Commerce intends to select respondents based either on U.S. Customs and Border Protection (CBP) data for U.S. imports during the period of review (POR) or questionnaires in which we request the quantity and value (Q&V) of sales, shipments, or exports during the POR. Where Commerce selects respondents based on CBP data, we intend to place the CBP data on the record within five days of publication of the initiation notice. Where Commerce selects respondents based on Q&V data, Commerce intends to place the Q&V questionnaire on the record of the review within five days of publication of the initiation notice. In either case, we intend to make our respondent selection decision within 35 days of the Federal Register publication of the initiation notice. Comments regarding the CBP data (and/or Q&V data (where applicable)) and respondent selection should be submitted within seven days after the placement of the CBP data/submission or the Q&V data on the record of the review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of the review and will not collapse companies at the respondent selection phase unless there has been a determination to collapse certain companies in a previous segment of the AD proceeding (e.g., investigation, administrative review, new shipper review, or changed circumstances review). For any company subject to the review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Q&V questionnaire for purposes of respondent selection, in general, each company must report volume and value data separately for itself. Parties should not include data for any other party, even if they believe they should be treated as a single entity with that other party. If a company was collapsed with another company or companies in the most recently completed segment of the proceeding where Commerce considered collapsing that entity, complete Q&V data for that collapsed entity must be submitted.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this initiation notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. In addition, all firms that wish to qualify for separate rate status in the administrative reviews of AD orders in which a Q&V questionnaire is issued must complete, as appropriate, either a Separate Rate Application or Certification, and respond to the Q&V questionnaire.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 14 calendar days after publication of this Federal Register notice. In addition to filing a Separate Rate Certification with Commerce no later than 14 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 14 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Certification Eligibility

Commerce may establish a certification process for companies whose exports to the United States could contain both subject and non-subject merchandise. Companies under review that were deemed to not be eligible to participate in the certification program of that proceeding may submit a Certification Eligibility Application to establish that they maintain the necessary systems to track their sales to the United States of subject and non-subject goods.

All firms listed below that are not currently eligible to certify but wish to establish certification eligibility are required to submit a Certification Eligibility Application. The Certification Eligibility Application will be available on Commerce's website at https://access.trade.gov/Resources/Certification-Eligibility-Application.pdf.

Certification Eligibility Applications must be filed according to Commerce's regulations and are due to Commerce no later than 30 calendar days after the publication of the Federal Register notice.

Exporters and producers that are not currently eligible to certify, who submit a Certification Eligibility Application, and are subsequently selected as mandatory respondents must respond to all parts of the questionnaire as mandatory respondents for Commerce to consider their Certification Eligibility Application.

Initiation of Reviews

In accordance with 19 CFR 351.221(c)(1)(i), we are initiating administrative reviews of the following AD and CVD orders and findings. We intend to issue the final results of these reviews not later than December 31, 2026.

| Period to be reviewed
AD Proceedings
INDONESIA: Certain Frozen Warmwater Shrimp, A-560-842 | 5/30/24-11/30/25
Cabang Lampung Bumi Menara
Cabang Lampung Bumi Menara Internusa
Cabang Medan
Charoen Pokphand Group Co., Ltd.
Cv. Kudatama Mas
Dharma Samudera Fishing Industries
Indo American Seafoods
Kudatama Mas
Misaja Mitra
PT Ayu Bumi Sejati
PT Bahari Makmur Sejati ⁴
PT Bandar Nelayan
PT Baramuda Bahari
PT Bumi Menara Internusa
PT Bumi Menara Internusa Cabang Lampung
PT Bumi Menara Internusa Dampit
PT Bumi Pangan Sejahtera
PT Bumi Pangan Utama
PT Centralpertiwi Bahari
PT First Marine Seafoods
PT Grahamakmur Ciptapratama
PT Indo American Foods
PT Indokom Samudra Persada
PT Khom Foods
PT Lola Mina
PT Madsumaya Indo Seafood
PT Marina Berkah Investama
PT Mega Marine Pride
PT Mustika Minanusa Aurora
PT Pabrik Lamongan BMI
PT Panca Mitra Multiperdana
PT Perikanan Indonesia
PT Perikanan Indonesia (Persero)
PT Phillips Seafoods Indonesia
PT Samudra Seafood Products
PT Sekar Bumi, Tbk ⁵
PT Sukses Lautan Indonesia
PT Sumber Kalimantan Abadi
PT Suri Tani Pemuka
PT Surya Adikumala Abadi
PT Surya Alam Tunggal
PT Tamron Akuatik Produk Industries
PT Tiga Makin Jaya
PT Tri Mitra Makmur
PT Wahyu Pradana Binamulia
PT Winaros Kawula Bahari
PT Windublambangan Sejati
PT Wirontono Baru
Sekar Katokichi
Sentosa Trading
Tridaya Jaya Manunggal
INDONESIA: Polyester Textured Yarn,A-560-838 | 12/1/24-11/30/25
PT Indorama Polychem Indonesia
PT Indo-Rama Synthetics Tbk
JAPAN: Aluminum Lithographic Printing Plates,⁶ A-588-881 | 5/1/24-10/31/25
JAPAN: Non-Oriented Electrical Steel, A-588-872 | 12/1/24-11/30/25
Nippon Steel Corporation
OMAN: Circular Welded Carbon-Quality Steel Pipe, A-523-812 | 12/1/24-11/30/25
Al Jazeera Steel Products Co. SAOG
REPUBLIC OF KOREA: Certain Superabsorbent Polymers, A-580-914 | 12/1/24-11/30/25
LG Chem, Ltd.
REPUBLIC OF KOREA: Forged Steel Fittings, A-580-904 | 12/1/24-11/30/25
Samyoung Fitting Co., Ltd.
REPUBLIC OF KOREA: Welded Line Pipe, A-580-876 | 12/1/24-11/30/25
AJU BESTEEL Co., Ltd.
BDP International, Inc.
Daewoo International Corporation
Dong Yang Steel Pipe
Dongbu Incheon Steel Co.
Dongbu Steel Co., Ltd.
Dongkuk Steel Mill
EEW Korea Co., Ltd.
HISTEEL Co., Ltd.
Husteel Co., Ltd.
Hyundai RB Co. Ltd.
Hyundai Steel Pipe Co., Ltd.; Hyundai Steel Company
Kelly Pipe Co., LLC
Keonwoo Metals Co., Ltd.
Kolon Global Corp.
Korea Cast Iron Pipe Ind. Co., Ltd.
Kumkang Kind Co., Ltd.
Kurvers Piping Italy S.R.L.
Miju Steel MFG Co., Ltd.
MSTEEL Co., Ltd.
NEXTEEL Co., Ltd.
Poongsan Valinox (Valtimet Division)
POSCO
POSCO Daewoo
R&R Trading Co. Ltd.
Sam Kang M&T Co., Ltd.
SeAH Steel Corporation
Sin Sung Metal Co., Ltd.
SK Networks
Soon-Hong Trading Company
Steel Flower Co., Ltd.
TGS Pipe
Tokyo Engineering Korea Ltd.
REPUBLIC OF TÜRKIYE: Hot Rolled Steel Flat Products,⁷ A-489-826 | 10/1/24-11/30/25
THAILAND: Polyester Textured Yarn, A-549-843 | 12/1/24-11/30/25
Indorama Polyester Industries Public Company Limited
THAILAND: Truck and Bus Tires, A-549-848 | 5/20/24-11/30/25
Asia Wheel Co., Ltd.
Bridgestone Corporation/Bridgestone Tire Manufacturing (Thailand) Co. Ltd.
Deestone Corporation Public Company Limited
Deestone Co. Ltd.
Deestone International Company Limited
Deestone Limited
General Rubber (Thailand) Co., Ltd.
Huayi Group (Thailand) Ltd.
LLIT (Thailand) Co., Ltd.
Maxxis International (Thailand) Co. Ltd.
Michelin Siam Group Co. Ltd.
Otani Radial Co., Ltd.
Otani Tire Co., Ltd.
Prinx Chengshan Tire (Thailand) Co., Ltd
Sentury Tire (Thailand) Co., Ltd.
Siam Rubber Co., Ltd
Siamtruck Radial Company Limited
Sumitomo Rubber (Thailand) Co., Ltd.
Vee Rubber Corp. Ltd.
Vee Tyre and Rubber Co., Ltd.
Yokohama Tire Manufacturing (Thailand) Co. Ltd.
Zhongce Rubber (Thailand) Co. Ltd.
THE PEOPLE'S REPUBLIC OF CHINA: Certain Cased Pencils, A-570-827 | 12/1/24-11/30/25
Shanghai Yover Stationery Co., Ltd.
Yiwu Huijie Make Pens Co., Ltd.
Zhejiang Pengsheng Stationery Co Ltd
Zhejiang Sinopencil Co., Ltd.
THE PEOPLE'S REPUBLIC OF CHINA: Crystalline Silicon Photovoltaic Cells, Whether Or Not Assembled Into Modules, A-570-979 | 12/1/24-11/30/25
Anji DaSol Solar Energy Science & Technology Co., Ltd.
Astronergy New Energy Technology (Singapore) PTE. Ltd.
Astronergy Solar
Boviet Solar Technology Co., Ltd.
BYD (H.K.) Co., Ltd.
BYD (Shangluo) Industrial Co., Ltd.
Canadian Solar International Limited; Canadian Solar Manufacturing (Changshu), Inc.; Canadian Solar Manufacturing (Luoyang), Inc.; CSI Cells Co., Ltd.; CSI Solar Co., Ltd. (f.k.a. CSI Solar Power (China) Inc.); CSI Solar Manufacturing (Fu Ning) Co., Ltd. (f.k.a. CSI-GCL Solar Manufacturing (YanCheng) Co., Ltd.)
Canadian Solar Manufacturing, Inc.
Canadian Solar Manufacturing (Thailand) Co., Ltd.
Chint Solar (Hong Kong) Company Limited; Chint Solar (Jiuquan) Co., Ltd.; Chint Solar (Zhejiang) Co., Ltd.; Chint New Energy Technology Co., Ltd. (f.k.a Chint New Energy Technology (Haining) Co., Ltd. and Chint Energy (Haining) Co., Ltd.)
CSI Modules (DaFeng) Co., Ltd.
CSI Solar Power Group Co., Ltd. (f.k.a. CSI Solar Power (China) Inc.)
De-Tech Trading Limited HK
ET Solar Technology (Vietnam) Company
Hanwha Corporation
Hanwha Q CELLS Corporation
Hanwha Q CELLS Malaysia Sdn. Bhd.
Hanwha Solutions Corporation
Hengdian Group DMEGC Magnetics Co. Ltd.
Hongkong Hello Tech Energy Co., Ltd.
Imperial Star Solar (Cambodia) Co. LTD.
JA Solar Co., Ltd.
JA Solar International Limited
JA Solar Malaysia SDN BDH
JA Solar PV Vietnam Company Limited
JA Solar Technology Yangzhou Co., Ltd.
JA Solar Vietnam Company Limited
Jiangsu Jinko Tiansheng Solar Co., Ltd.
Jiawei Solarchina (Shenzhen) Co., Ltd
Jiawei Solarchina Co., Ltd.
JingAo Solar Co., Ltd.
Jinko Solar (Malaysia) Sdn. Bhd.
Jinko Solar (Vietnam) Industries Company Limited
Jinko Solar Import and Export Co., Ltd.; Jinko Solar Co., Ltd.; JinkoSolar Technology (Haining) Co., Ltd.; Yuhuan Jinko Solar Co., Ltd.; Zhejiang Jinko Solar Co., Ltd.; Jiangsu Jinko Tiansheng Solar Co., Ltd.; JinkoSolar (Chuzhou) Co., Ltd.; JinkoSolar (Yiwu) Co., Ltd.; JinkoSolar (Shangrao) Co., Ltd.
Jinko Solar (Haining) Co., Ltd. (f.k.a. Jinko Solar Technology (Haining) Co., Ltd.)
Jinko Solar International Limited
Jinko Solar Technology Sdn. Bhd.
Jinkosolar Middle East DMCC
Letsolar Vietnam Company Limited
Light & Hope Energy Co, Ltd.
Lightway Green New Energy Co., Ltd.
Longi (HK) Trading Limited
Longi Malaysia SDN BHD
Longi Solar Technology (HK) Limited
LONGi Solar Technology Co. Ltd.
Longi Technology SDN
Luoyang Suntech Power Co., Ltd.
M.L.T. Solar Energy Product Co., Ltd.
Maodi Solar Technology (Dongguan) Co., Ltd.
New East Solar Energy Cambodia Co., Ltd.
Nexuns Vietnam Company Limited
Ningbo ETDZ Holdings, Ltd.
Ningbo Qixin Solar Electcial Appliance Co., Ltd.
Red Sun Energy Long An Company Limited
Renesola Jiangsu Ltd.
ReneSola Zhejiang Ltd.
Risen Energy Co., Ltd.; Risen Energy (Changzhou) Co., Ltd.; Risen (Wuhai) New Energy Co., Ltd.; Zhejiang Twinsel Electronic Technology Co., Ltd.; Risen (Luoyang) New Energy Co., Ltd.; Jiujiang Shengchao Xinye Technology Co., Ltd.; Jiujiang Shengzhao Xinye Trade Co., Ltd.; Ruichang Branch, Risen Energy (HongKong) Co., Ltd.; Risen Energy (YIWU) Co., Ltd.
Shanghai BYD Co., Ltd.
Shanghai JA Solar Technology Co., Ltd.
Shanghai Nimble Co., Ltd.
Shenzhen Glory Industries Co., Ltd.
Shenzhen Sungold Solar Co., Ltd.
Shenzhen Topray Solar Co., Ltd.
Shenzhen Yingli New Energy Resources Co., Ltd.; Baoding Jiasheng Photovoltaic Technology Co., Ltd.; Baoding Tianwei Yingli New Energy Resources Co., Ltd.; Beijing Tianneng Yingli New Energy Resources Co., Ltd.; Hainan Yingli New Energy Resources Co., Ltd.; Hengshui Yingli New Energy Resources Co., Ltd.; Lixian Yingli New Energy Resources Co., Ltd.; Tianjin Yingli New Energy Resources Co., Ltd.; Yingli Energy (China) Company Limited.
Solar Earth Co., Limited
Suntech Power Co., Ltd.
Sunmax Energy (M) Sdn Bhd.
Tainergy Tech. Co., Ltd.
Taizhou BD Trade Co., Ltd.
Talesun Technologies (Thailand) Co., Ltd.
tenKsolar (Shanghai) Co., Ltd.
Trina Solar Co., Ltd.; Trina Solar (Changzhou) Science and Technology Co., Ltd.; Yancheng Trina Guoneng Photovoltaic Technology Co., Ltd.; Changzhou Trina Solar Yabang Energy Co., Ltd.; Turpan Trina Solar Energy Co., Ltd.; Hubei Trina Solar Energy Co., Ltd.; Trina Solar (Hefei) Science and Technology Co., Ltd.; Changzhou Trina Hezhong Photoelectric Co., Ltd.; Changzhou Trina PV Ribbon Materials Co., Ltd.
Trina Solar (Singapore) Science and Technology Pte. Ltd.
Trina Solar Energy Development PTE Ltd.
Trina Solar Energy Development Company Limited
Trina Solar Science & Technology (Thailand) Ltd.
Vietnam Sunergy Cell Company Limited
Vietnam Sunergy Joint Stock Company
Vietnergy Co., Ltd.
Vina Cell Technology Company Limited
Vina Solar Technology Company Limited
Wuxi Suntech Power Co., Ltd.
Wuxi Tianran Photovoltaic Co., Ltd.
Xiamen Yiyusheng Solar Co., Ltd.
Yingli Green Energy International Trading Company Limited
Zhejiang Aiko Solar Energy Technology Co., Ltd.
THE PEOPLE'S REPUBLIC OF CHINA: Mattresses, A-570-092 | 12/1/24-11/30/25
Dongguan Fengyue Trading Co., Ltd
Dongguan Qianwei Trading Co., Ltd
Dongguan Wanluyi Trading Co., Ltd
Guang Dong Keyouyun Smart Home
Hangzhou Golden Wheat Technology Co.
Lanshan District Huashu Hardware
Shenzhen Yongshitong International
Shenzhen Yuehailong Technology Co.
Zhejiang Meili High Technology Co.
THE PEOPLE'S REPUBLIC OF CHINA: Multilayered Wood Flooring, A-570-970 | 12/1/24-11/30/25
Hunchun Xingjia Wooden Flooring Inc.
Zhejiang Longsen Lumbering Co., Ltd.
UNITED ARAB EMIRATES: Circular Welded Carbon-Quality Steel Pipe, A-520-807 | 12/1/24-11/30/25
Ajmal Steel Tubes & Pipes Ind. L.L.C.; Ajmal Steel Tubes & Pipes Ind. L.L.C.-Branch-1 ⁸
Conares Metal Supply Limited
K.D. Industries Inc.
KHK Scaffolding and Formwork LLC; Universal Tube and Pipe Industries FZE; THL Tube and Pipe Industries LLC ⁹
Tiger Steel Industries LLC
CVD Proceedings
ECUADOR: Certain Frozen Warmwater Shrimp, C-331-806 | 4/1/24-12/31/24
Allseas Exp. Trade S.A
AllSeas Export & Trade S.A.
Apexec S.A.S.
Aquagold S.A.
Asociacion De Produccion Agricola
Bellitec S.A.
Bgr Exp. Shrimp S.A.
Blue Pacific Corporate
Camaronera Comercializadora Y Productora Concamaron S.A.
Camarones Y Pesca Del Ecuador
Ceaexport S.A.
Cemaurea S.A
Cepromar S.A.
Cofimar S.A.
Comercial Pesquera Cristiansen S.A.
Comercializadora & Exportadora Hipocampus S.A.
Comercializadora Dagerexports S.A.
Comercializadora De Productos Cedaro S.A.
Comercializadora Internacional de Marisco Margranja S.A.
Comercializadora Internacional de Mariscos
Comercializadora Internacional de Mariscos MARGRANJA S.A.
Compania Empacadora Dufer Cia. Ltda.
Compania Ortiz & Loaiza Corlaprod S
Compania Ortiz & Loaiza Corlaprod S.A.
Compañía Ortiz Loaiza
Corlaprod S.A.
Criaderos De Mariscos S.A. (Crimasa)
Crimasa Criaderos de Mariscos S.A.
Cultivo y Exportacion Acuicola
Cultivo Y Exportacion Acuicola Ceaexport S.A.
Cultivos del Pacifico Sur (Cultipacsur) S.A.S.
Cultivos del Pacifico Sur Cultipacsur S.A.S.
D Cam S.A
Dager Shrimps S.A.S.
Davmercorp S.A.
Ecuafish S.A.
Edpacif S.A.
Empacadora Bilbo S.A. Bilbosa
Empacadora Bilbo S.A. dba Bilbosa
Empacadora Coral Del Pacifico Emcopac S.A.
Empacadora Crustamar S.A.
Empacadora De Camaron Premium Empacap S.A.S.
Empacadora del Pacifico Edpacif S.A.
Empacadora Del Pacifico S.A. dba Edpacif S.A
Empacadora del Pacifico Sociedad
Empacadora Dufer C. Ltda
Empacadora Dufer S.A.
Empacadora Grupo Granmar S.A. (Empagran)
Empacadora Grupo Granmar S.A. dba Empagran
Empacreci S.A.
Empresa de Alimentos Montecristi Empamon S.A.
Empromar S.A.
Empromar S.A. Ruc 0993371450001
Empsa Empacreci S.A.
Expalsa Exportadora de Alimentos S.A.
Exportadora Bananera
Exportadora Coaque Expocoaque Sas
Exportadora de Alimentos S.A. dba Expalsa
Exportadora de Productos del Oceano
Exportadora de Productos del Oceano Oceanproduct Cia. Ltda
Exportadora Lamar Exp. & Lamar S.A
Exportadora Lamar Expo & Lamar S.A.
Exportadora Langosmar S.A.
Exportadora Total Seafood
Exportadora Total Seafood S.A.
Exportadora Total Seafood TotalSeafood S.A.
Exportadores Del Pacifico EXPA S.A.
Exportgagroup S.A.
Exportquilsa & Productores Asociados
Exportquilsa & Productores Asociados S.A.
Exportquilsa And Productores
Exposynergy S.A.S.
Expotuna S.A.
Eyco S.A.
Faenamiento De Camaron Faecamsa S.A.
Faenamiento de Camaron FAECAMSA S.A.
Firexpa S.A.
Fishcorp S.A.
Frigolandia S.A.
Frigopesca C.A.
Frigorifico Y Laboratorio de Pesca FRILABPESCA S.A.
Frimar Cia Ltda.
Gambas del Pacifico S.A.
Grupo Degfer Cia Ltda.
Industria Pesquera Jambeli C.A.
Industria Pesquera Santa Priscila S.A.
Industrial Pesquera Junin S.A. Junsa
Limbomar S.A.
M.J.D. Seafood S.A.
Maramar S.A.
Margranija S.A.
Marinos Omarsa
Mariscos Del Ecuador Marecuador Cia Ltda
Mariscos del Ecuador Marecuador Cia.
Mariscos del Ecuador MARECUADOR Cia. Ltda.
Natluk S.A.
Natural Seafood Natuseafood C. Ltda
Natural Seafood NATUSEAFOOD Cia. Ltda.
Negocios Industriales Real Nirsa
Negocios Industriales Real Nirsa S.A.
Nirsa
Nirsa S.A.
Oceancastle
Oceanfish S.A.
Oceano De Camaron Ecuatoriano Oceancastle C.A.
Operadora y Procesadora de Productos Marinos dba Omarsa S.A.
Operadora y Procesadora de Productos Marinos Omarsa S.A.
Pacfish S.A.
Pacfish S.A. Pacificseafood S.A.
Pacific Ocean S.A.
Pacific Seafood S.A.
Pacifictuna
Pacmar Seafood S.A.S.
Pacmar Seafood S.A.S.
PCC Congelados & Frescos S.A.
Peces y Crustaceos Del Pacifico
Peces y Crustaceos del Pacifico Pez
Perlas del Pacifico Paciper S.A.
Pescados y Mariscos Del Pacifico S.A.
Pescafoods S.A.S.
Pesmarpac
Pesquera Del Pacifico Pesdepac S.A.
Pesquera Tunaquick S.A.
Pezcrup S.A.
Pinturas Condor S.A.
Procamaronex Cia. Ltda.
Procesadora de Mariscos de El Oro (Promaoro) S.A.
Procesadora de Mariscos De El Oro PROMAORO S.A.
Procesadora de Mariscos Herbozo—Burgos Herbu S.A.
Procesadora del Pacifico Propacifico
Procesadora Del Pacifico Propacifico S.A..
Procesadora del Rio S.A. Proriosa
Procesadora Del Rio S.A. dba Proriosa
Procesadora Posorja Proposorja S.A.
Procesadora Y Exportadora De Cama
Procesadora y Exportadora de Camaron Procamaronex C. Ltda.
Procesadora y Exportadora de Camarones Procamaronex C. Ltda.
Procesadora Y Exportadora De Cameron Export Procamaronex Cia. Ltda
Prodex Cia. Ltda.
Productos del Mar Azul Prodmazul
Productos Del Mar Azul Prodmazul S.A.
Productos Del Pacifico S.A.
Productos Perecibles y Mariscos Propemar S.A.
Proexpo Procesadora y Exportador
Proexpo, Procesadora Y Exportadora de Mariscos S.A
PROEXPO, Procesadora y Exportadora de Mariscos S.A.
Promaoro S.A.
Promarisco S.A.
PROMAROSA (Productos del Mar Santa Rosa) Division Chanduy
Promarosa Productos del Mar Santa
Promarosa Productos Del Mar Santa Rosa C. Ltda
Propemar Proexpo Procesadora y Exportadora
Propemar S.A.
Proposorja S.A.
Proriosa Procesadora y Exportadora de Camarones
Puertomar S.A
Qualitygood S.A.
Sociedad Nacional de Galapagos (Songa) C.A.
Sociedad Nacional de Galápagos C.A
Sodicor S.A.
South Pacific Seafood S.A. Sopase
South Pacific Seafood S.A. dba Sopase
Sunchodesa Representaciones C. Ltda
Thomas Patrick Boland
Transcity S.A.
Tropack Tropical Packing Ecuador S.A.
INDIA: Certain Frozen Warmwater Shrimp, C-533-921 | 4/1/24-3/31/25
Aachi Masala Foods Pvt. Ltd
Aarshi Overseas Pvt. Ltd.
Abad Overseas Pvt. Ltd.
Accelerated Freeze Drying Co., Ltd.
ADF Foods Ltd
Aerath Business Corp.
AJS Enterprises LLP
Akshay Food Impex Pvt. Ltd.
Alashore Marine Exports Pvt. Ltd.
Albys Agro Pvt. Ltd.
Al-Hassan Overseas Pvt. Ltd.
Allana Frozen Foods Pvt. Ltd.
Allanasons Ltd
Alpha Marine
Alps Ice & Cold Storage Pvt. Ltd.
Amaravathi Aqua Exports Pvt. Ltd
Amarsagar Seafoods Pvt. Ltd.
Amulya Seafoods
Ananda Aqua Applications; Ananda Aqua Exports Pvt. Ltd.; Ananda Foods
Ananda Enterprises (India) Pvt. Ltd.
Anantha Seafoods Pvt. Ltd.
Andaman Sea Foods Pvt. Ltd.
Anjaneya Sea Foods
Apar Industries Ltd.
Aparna Marine Exports
Apex Frozen Foods Ltd.
Aquamarine Food Products Ltd.
Aquastar Marine Exports
Aquatech Feed & Seafoods Pvt. Ltd.
Aquatica Frozen Foods Global Pvt. Ltd.
Ariba Foods Pvt. Ltd.
Arya Sea Foods Pvt. Ltd.
Asvini Agro Exports
Asvini Fisheries Ltd.; Asvini Fisheries Pvt. Ltd.
Aswin Associates
Atlas Fisheries Pvt. Ltd.
Avanti Feeds Ltd
Avanti Frozen Foods Pvt. Ltd.
Avla Nettos Exports
Ayshwarya Sea Food Pvt. Ltd.
B R Traders
Baby Marine Eastern Exports
Baby Marine Exports
Baby Marine International
Baby Marine Sarass
Baby Marine Ventures
Bafna Enterprises
Bafna Enterprises
Bakemill Foods
Balasore Marine Exports Pvt. Ltd.
Baraka Overseas Traders
Basu International
Basu International Bay Seafoods
BB Estates & Exports Pvt. Ltd.
Bell Exim Pvt. Ltd.
Bell Foods
Bergwerff Organic India Pvt. Ltd.
Bhatsons Aquatic Products
Bhavani Seafoods
Bhimraj Exports Pvt. Ltd
Bijaya Marine Products
Birendrashok Seafoods Pvt.
Blue Park Seafoods Pvt. Ltd.
Blue Sea Resources Pvt. Ltd.
Blue Water Foods & Exports Pvt. Ltd.
Blue-Fin Frozen Foods Pvt Ltd
Bluepark Seafoods Pvt. Ltd.
Bluetide Eservices Pvt., Ltd.
BMR Exports; BMR Exports Pvt. Ltd
BMR Industries Pvt. Ltd.
B-One Business House Pvt. Ltd.
Brc Marine Products
Britannia Industries Ltd.
Britto Seafoods Exp. Pvt. Ltd.; Britto Exports; Britto Exports Pvt. Ltd
C.P. Aquaculture (India) Pvt. Ltd.
Calcutta Seafoods Pvt. Ltd.; Bay Seafood Pvt. Ltd.; Elque Ventures Pvt. Ltd.
Canaan Marine Products
CAP Seafoods Pvt. Ltd.
Capital Foods Pvt. Ltd.
Western Chemical Industries P Limited
Capithan Exporting Co.
Chakri Fisheries Pvt. Ltd.
Cherukattu Industries (Marine Div); Cherukattu Industries
Choice Trading Corporation Pvt. Ltd.
Coastal Corporation Ltd.
Cofoods Processors Pvt. Ltd.
Continental Fisheries India Pvt. Ltd.
Castlerock Fisheries Ltd.
Chemmeens (Regd)
Choice Canning Company
Coastal Aqua Pvt. Ltd.
Cochin Frozen Food Exports Pvt. Ltd.
Contai Marine Fish Exp. Pvt.
Coreline Exports
Corlim Marine Exports Pvt. Ltd.
Crystal Sea Foods Pvt. Ltd.
Danica Aqua Exp. Pvt. Ltd.
Deepak Nexgen Foods And Feeds Pvt. Ltd.
Diamond Seafoods Exports; Edhayam Frozen Foods Pvt. Ltd.; Kadalkanny Frozen Foods; Theva & Company
CPF India Pvt. Ltd.
Crystalnova Foods Pvt., Ltd.
Datla Sea Foods
Deepmala Marine Exports
Delsea Exports Pvt. Ltd.
Desai Foods Pvt. Ltd.
Devi Fisheries Limited
Devi Sea Foods Ltd.
DN Sea Shells Pvt. Ltd.
DSF Aquatech Pvt. Ltd.
Eden Garden Exports
Eden Garden Exports
Empire Industries Ltd.
Esmario Export Enterprises
Fair Exp. (India) Pvt., Ltd.
Febin Marine Foods Pvt. Ltd.; Febin Marine Foods
Five Star Marine Exports Pvt. Ltd.
Dwaraka Sea Foods
Edhayam Frozen Foods Pvt., Ltd.
Elque Ventures Pvt., Ltd.
Entel Food Products Pvt. Ltd.
Everblue Sea Foods Pvt. Ltd.
Falcon Marine Exports Ltd.; KR Enterprises
Fedora Sea Foods Pvt. Ltd.
Food Products Pvt., Ltd.; Parayil Food Products Pvt., Ltd.
Fouress Food Products
Frontline Exports Pvt. Ltd.
G A Randerian Ltd.; G A Randerian Pvt. Ltd.
Gadre Marine Export P Ltd.
Galaxy Maritech Exports Pvt. Ltd.
Gaurav International
Geo Aquatic Products Pvt. Ltd.
Geo Seafoods
Ghan Marine Products
GKS Business Associates Pvt. Ltd
Global Gourmet Pvt. Ltd.
Glossy Impex Pvt. Ltd.
Goana Foods
Godavari Mega Aqua Food Park Pvt. Ltd.
Gokul Overseas Ltd.
Grand Marine Foods
Grandtrust Overseas Pvt. Ltd.
Green Asia Impex Pvt. Ltd.
Growel Processors Pvt. Ltd.
GVR Exports Pvt. Ltd.
Hari Marine Pvt. Ltd.
Haripriya Marine Exports Pvt. Ltd.
Heiploeg Seafood India Pvt., Ltd.
HIC ABF Special Foods Pvt. Ltd.
High Care Marine Foods Exports Pvt. Ltd.
Highland Agro Food Pvt. Ltd.
Hiravati Exports Pvt. Ltd.
Hiravati International Pvt. Ltd.
Hiravati Marine Products Pvt. Ltd.
HMG Industries Ltd.
HN Indigos Pvt. Ltd.
HT Foods Pvt. Ltd.
Hyson Exports Pvt. Ltd.
Hyson Logistics and Marine Exports Pvt. Ltd.
IFB Agro Industries Ltd.
Indian Aquatic Products
Indo Aquatics Flat
Indo Fisheries
Indo French Shellfish Company Pvt. Ltd.
Innovative Foods Ltd.
International Freezfish Exports
Intl Exporters Foodparks Pvt. Ltd.
ITC Ltd.
Jagadeesh Marine Exports
Jana Brothers Sea Food Llp
Jaya Lakshmi Sea Foods Pvt. Ltd.
Jeelani Marine Products Pvt. Ltd.
Jinny Marine Traders
Joecons Marine Exp. Pvt., Ltd.
Jude Foods India Pvt. Ltd.
K R Sea Foods Pvt. Ltd.
Kader Exports Pvt. Ltd.
Kalyan Aqua & Marine Exp. India Pvt.
Karunya Marine Exports Pvt. Ltd.
Kaushalya Aqua Marine Product Exports Pvt. Ltd
Kay Kay Exports; Kay Kay Foods
Kiefer Sea Foods
Kings Infra Ventures Ltd.
Kings Marine Products
KNC Agro Ltd.; KNC Argo Pvt. Ltd.
Kohinoor Foods Ltd.
Koluthara Exports Ltd.
KR Enterprises
K.V. Marine Exports
Lia Lito Marine Exports Pvt. Ltd.
Libran Foods
LNSK Greenhouse Agro Products LLP
Magnum Sea Foods Ltd.; Magnum Estates Ltd
Mangala Marine Exim India Pvt. Ltd.
Mangala Sea Products
Mangala Seafoods; Mangala Sea Foods
Marine Harvest
Megaa Moda Pvt. Ltd.
Mekworld Marines and Exports Pvt. Ltd.
Milesh Marine Exports Pvt. Ltd.
Kohinoor Foods Ltd.
Koluthara Exports Ltd.
Lito Marine Exports Pvt. Ltd.
LNSK Greenhouse Agro Products
Maa Nachinda Sea Food Pvt. Ltd.
Magnum Export; Magnum Exports Pvt. Ltd.
Magnum Sea Foods Ltd.; Magnum Estates Ltd.; Magnum Estates Pvt.; Magnum Estates Pvt. Ltd.
Mangala Marine Exim India Pvt. Ltd.
Mangala Sea Products
Mangala Seafoods; Mangala Sea Foods
Marine Harvest India
Megaa Moda Pvt. Ltd.
Mekworld Marines and Exports Pvt. Ltd.
Milesh Marine Exports Pvt. Ltd.
Milsha Agro Exports Pvt. Ltd.
Milsha Sea Products
Minaxi Fisheries Pvt. Ltd.
Mindhola Foods LLP
Minh Phu Group
MMC Exports Ltd.
Mourya Aquex Pvt. Ltd
Monsun Foods Pvt. Ltd.
MTR Foods
Munnangi Seafoods (Pvt) Ltd.
N.K. Marine Exports LLP
Naga Hanuman Fish Packers
Naik Frozen Foods Pvt. Ltd.; Naik Frozen
Naik Oceanic Exports Pvt. Ltd.; Rafiq Naik Exports Pvt. Ltd.
Naik Seafoods Ltd.
Nanak Nutritions Food (Taloja) Pvt., Ltd.
Naq Foods India Pvt. Ltd.
Nas Fisheries Pvt. Ltd.
Ndm Seafood Processors & Exp.
Nector Exp. Pvt., Ltd
Neeli Aqua Pvt. Ltd.
Nekkanti Mega Food Park Pvt. Ltd.
Nekkanti Sea Foods Ltd
New Faizan Foods
Nezami Rekha Sea Foods Pvt. Ltd.; Nezami Rekha Sea Food Pvt. Ltd.
Nila Sea Foods Exports; Nila Sea Foods Pvt. Ltd.
Nilamel Exp.
Nk Marine Exp. Llp
NNK Marine Exports Pvt Ltd.
Nutrient Marine Foods Ltd.
Oceanic Edibles International Ltd.
Orchid Marine Exports Pvt. Ltd.
Paragon Sea Foods Pvt. Ltd.
Paramount Seafoods
Pasupati Aquatics Pvt. Ltd.
Penver Products Pvt. Ltd.
Pesca Marine Products Pvt., Ltd.
Phillips Foods India Pvt. Ltd.
Pijikay International Exports P Ltd.
Poyilakada Fisheries Pvt. Ltd.
Pravesh Seafood Pvt. Ltd.
Premier Exports International
Premier Marine Foods
Premier Marine Products
Premier Seafoods Exim Pvt. Ltd.
Protech Organo Foods Pvt. Ltd.
R V R Marine Products Pvt. Ltd.
Raju Exports
Rajyalakshmi Marine Exports
Ram's Assorted Cold Storage Ltd.
Raunaq Ice & Cold Storage
Razban Seafoods Ltd.
RDR Exports
Relish Custom Foods
RF Exports Pvt. Ltd.
Rising Tide
Riyarchita Agro Farming Pvt. Ltd.
Rizwan Ice & Cold Storage Partnership Firm Pvt Ltd.
Royal Exports
Royal Imports and Exports
Royale Marine Impex Pvt. Ltd.
RSA Marines; Royal Oceans
Rupsha Fish Pvt. Ltd.
S Chanchala Combines
S.A. Exports
S.H. Marine Exim
Safa Global Imp. & Exp.
Safera Food International
Sagar Grandhi Exports Pvt. Ltd.
Sagar Marine Imp. & Exp.
Sagar Samrat Seafoods
Sahada Exports
Sai Aquatechs Pvt. Ltd.
Sai Marine Exports Pvt. Ltd.
Sai Sea Foods
Salet Seafoods Pvt. Ltd.
Sam Aqua Exports LLP
Samaki Exports Pvt. Ltd.
Sanchita Marine Products Pvt. Ltd.
Sandhya Aqua Exports Pvt. Ltd.; Sandhya Aqua Exports
Sandhya Marines Ltd.
Sandy Bay Seafoods India Pvt. Ltd.
Sassoondock Matsyodyog Sahakari Society Ltd.
Satish Marine Exim Pvt. Ltd.
Satya Seafoods Pvt. Ltd.
Sea Doris Marine Exports
Sea Foods Pvt. Ltd
Seagold Overseas Pvt. Ltd.
Seagull Maritime Exports Pvt. Ltd.
Seasaga Enterprises Pvt. Ltd.; Seasaga Group; Elimar Frozen Food
Shankha Deep Exp. Pvt. Ltd.
Sharat Industries Ltd.
Shimpo Exports Pvt. Ltd.
Shimpo Seafoods Pvt. Ltd.
Shiva Frozen Food Exp. Pvt. Ltd.
Shree Datt Aquaculture Farms Pvt. Ltd
Shree Ulka LLP
Shroff Processed Food & Cold Storage P Ltd.
Sigma Seafoods
Silver Seafood
Sita Marine Exports
Snow World Marine Exp. Pvt.
Sonia Fisheries
Sonia Marine Exports Pvt. Ltd.
Southern Tropical Foods Pvt. Ltd
Sprint Exports Pvt. Ltd.
Sreeragam Export Pvt. Ltd.
Srikanth International
SSF Ltd.
St. Peter and Paul Sea Food Exports Pvt. Ltd.
Star Agro Marine Exports Pvt. Ltd.
Star Organic Foods Pvt. Ltd.
Stellar Marine Foods Pvt. Ltd.
Sterling Foods
Subu Sea Foods
Summit Marine Exports Pvt. Ltd.
Sun Agro Exim
Sunrise Aqua Food Exports
Sunrise Seafoods India Pvt. Ltd.
Supran Exim Pvt. Ltd.
Suryamitra Exim Pvt. Ltd. R
Suvarna Rekha Exports Pvt. Ltd.
Suvarna Rekha Marines P Ltd.
TBR Exports Pvt. Ltd.
Teekay Marines Pvt. Ltd.; Teekay Marine Pvt. Ltd.
Tej Aqua Feeds Pvt. Ltd.
The Waterbase Ltd.
Theva & Co.
Torry Harris Seafoods Ltd.
Triveni Fisheries P Ltd.
U & Company Marine Exports
Ulka Sea Foods Pvt. Ltd.
Uniloids Biosciences Pvt. Ltd.
Uniroyal Marine Exports Ltd
Unitriveni Overseas Pvt. Ltd.; Unitriveni Overseas
Upasana Exports
Usha Seafoods
Ushodaya Enterprises Pvt. Ltd.
V.V. Marine Products
Vaisakhi Bio-Marine Pvt. Ltd.
Varma Marine Pvt. Ltd.
Vasai Frozen Food Co.
Vasista Marine
Veerabhadra Exports Pvt. Ltd.
Veronica Marine Exports Pvt. Ltd.
Victoria Marine & Agro Exports Ltd.
Vinner Marine
Vitality Aquaculture Pvt. Ltd.
VKM Foods Pvt. Ltd.
VRC Marine Foods LLP.
Wellcome Fisheries Ltd.
West Coast Fine Foods (India) Pvt. Ltd.
West Coast Frozen Foods Pvt. Ltd.
Z.A. Sea Foods Pvt. Ltd.
Zeal Aqua Limited
SOCIALIST REPUBLIC OF VIETNAM: Certain Frozen Warmwater Shrimp, C-552-838 | 4/1/24-12/31/24
Agrex Saigon Foodstuffs Joint Stock Company
Amanda Seafood Co., Ltd.
An Nguyen Investment Production and Group
Anh Khoa Seafood
Anh Minh Quan Corp.
APT Co.
Asia Foods Import Export Corporation (aka AFOODs)
Au Vung One Seafood
Bac Lieu Fisheries Joint Stock Company (aka Baclieufis)
Bach Mai Agricultural Products Processing One Member Co., Ltd.
Bentre Forestry and Aquaproduct Import Export Joint Stock Company (aka FAQUIMEX)
Bentre Seafood Joint Stock Company
BeseaCo
Bien Dong Seafood Co., Ltd.
BIM Foods Joint Stock Company
Binh Dong Fisheries Joint Stock Company (aka FISCO)
Binh Thuan Import-Export Joint Stock Company (aka Thaimex Seafood)
Blue Bay Seafood Co., Ltd.
C.P. Vietnam Corporation
Ca Mau Foods & Fishery Export Joint Stock Company (aka FFC)
Ca Mau Seafood Joint Stock Company (aka Seaprimexco Vietnam)
Ca Mau Seafood Processing and Service Joint Stock Corporation (aka CASES)
Cadovimex II Seafood Import Export and Processing Joint Stock Company
Cadovimex Seafood Import-Export and Processing Joint Stock Company
Cafatex Corporation
Cantho Import Export Fishery Limited Company (aka CAFISH)
Camimex Corp.
Camimex Foods Joint Stock Company
Camimex Group Joint Stock Company (aka Ca Mau Frozen Seafood Processing Import Export Corporation)
Can Tho Import Export Seafood Joint Stock Company (aka CASEAMEX)
Chinhdat Long An Co., Ltd.
Cholimex Food Joint Stock Company
CJ Cau Tre Foods Joint Stock Company
Ck Frozen Foods Viet Nam Company Limited
Coastal Fisheries Development Corporation (aka COFIDEC)
Cuulong Seaproducts Company (aka Cuulong Seapro)
D And N Foods Processing (Danang) Company Ltd.
Dai Phat Tien Seafood Co., Ltd.
Dai Tien Vinh Company Ltd.
Danang Seaproducts Import-Export Corporation (aka SEADANANG)
Dandelion Vietnam Joint Stock
Domenal Joint Stock Company
Dong Hai Seafood Limited Company
Dong Phuong Co., Ltd
Dong Phuong Seafood Co., Ltd.
Duc Cuong Seafood Trading Co., Ltd.
Duong Hung Seafood
Frozen Seafoods Factory
Frozen Seafoods Factory No. 32
Gallant Dachan Seafood Co., Ltd.
Gallant Ocean (Vietnam) Joint Stock Company
GN Foods Joint Stock Company
Go Dang Joint Stock Company (aka GODACO Seafood)
Golden Shrimp Seafood Joint Stock Company
Green Farms Seafood Joint Stock Company
Hai Viet Corporation (aka HAVICO)
Hanh An Trading Service Co., Ltd.
Hanh Minh Thi Long An Joint Stock Company
Hoa Doanh International Joint Stock Company
Hoang Anh Fisheries Trading Company Limited
Hoang Phong Seafood Co.
Hong Ngoc Seafood Co., Ltd.
Hong Phat Trading Services Packing Exporting Co., Ltd.
Hung Bang Company Limited
Hung Dong Investment Service Trading Co., Ltd.
HungHau Agricultural Joint Stock Company
Huy Nam Seafoods Company Limited
Investment Commerce Fisheries Corporation (aka Incomfish
Infinite Ils Co., Ltd.
JK Fish Co., Ltd.
Khang An Foods Joint Stock Company
Khanh Hoa Seafoods Exporting Company (aka KHASPEXCO)
Khanh Sung Co., Ltd.
Kim Anh Company Limited
Kim Phat Seafood Import Export Co., Ltd.
Lang Tram Seafoods Processing Factory
Lien A Co., Ltd.
Long Toan Frozen Aquatic Products Joint Stock Company
Lucky Shing Company Ltd.
MC Seafood
Mekong Seafood Connection (aka MEKSE)
Minh Anh Seafood Import Export One Member Company Limited
Minh Bach Seafood Company Limited
Minh Cuong Seafood Import Export Processing Joint Stock Company
Minh Hai Export Frozen Seafood Processing Joint-Stock Company (aka Minh Hai Jostoco)
Minh Hai Joint-Stock Seafoods Processing Company (aka Seaprodex Minh Hai; Sea Minh Hai)
Minh Phat Seafood Company Limited
Minh Phu Group
Minh Phu Hau Giang Seafood Corporation
Minh Phu Hau Giang Seafood Processing
Minh Phu Seafood Corporation
Minh Qui Seafood Company Limited
My Son Frozen Seafoods Factory
Nam Hai Foodstuff and Export Company Ltd.
Nam Phuong Foods Import Export Company Limited
Nam Viet Seafood Import Export Joint Stock Company (aka NAVIMEXCO)
Namcan Seaproducts Import Export Joint Stock Company (aka SEANAMICO)
New Generation Seafood Joint Stock Company
New Wind Seafood Company Limited
Ngoc Anh Export Import Co., Ltd.
Ngoc Tri Seafood Joint Stock Company
Ngoc Trinh Bac Lieu Seafood Co., Ltd.
Nguyen Chi Aquatic Product Trading Company Limited
Nha Trang Seafoods—F. 89 Joint Stock Company
Nha Trang Seaproduct Company
Nhat Duc Co., Ltd.
Nigico Co., Ltd.
NT Seafoods Corporation
NTSF Seafoods Joint Stock Company
Ocean Bridge Company Limited
Ocean Gift Foods Joint Stock Company
Phu Thanh Co., Ltd
Phuoc Thanh Iv Trading Production Company Limited
Phuong Nam Foodstuff Corp.
Quoc Ai Seafood Processing Import Export Co., Ltd. (aka QAIMEXCO)
QNL Company Limited
Quang Binh Co., Ltd.
Quang Minh Seafood Co., Ltd.
Quang Minh Seafood Limited Liability Company
Quoc Toan PTE
Quoc Viet Seaproducts Processing Trading & Import-Export Corporation
Quy Nhon Frozen Seafoods Joint Stock Company
Sa Ky Foods Corporation
Safe And Fresh Aquatic Products Joint Stock Company
Sai Thanh Foods
Saigon Aquatic Product Trading Joint Stock Company
Saigon Food Joint Stock Company
Sao Ta Foods Joint Stock Company (aka FIMEX VN, FMC)
Savvy Seafood Vietnam Co., Ltd.
Seafood Direct 2012 One Member Limited Liability Company
Seafood Joint Stock Company No. 4
Seafood Travel Construction Import Export Joint Stock Company
Seafoods and Foodstuff Factory
Seaproducts Joint Stock Company No. 5 (aka VIETROSCO)
Seaspimex Vietnam
Seavina Joint Stock Company
Simmy Seafood Company Limited
Soc Trang Seafood Joint Stock Company (aka STAPIMEX)
Song Tran Import & Export Co. Ltd.
South Ha Tinh Seaproducts Import-Export Joint Stock Company
South Vina Shrimp Joint Stock Company (aka SVS)
Southern Fresh Foodsc
Southern Shrimp Joint Stock Company
Special Aquatic Products Joint Stock Company
T & P Seafood Company Limited
T&T Cam Ranh
Tacvan Frozen Seafood Processing Export Company (aka Tac Van Seafoods Co.)
Tai Kim Anh Seafood Joint Stock Corporation (aka TAIKA Seafood Corporation)
Tai Nguyen Seafood Co., Ltd.
Tai Viet Corporation
Tan Dong Trade Production Co., Ltd.
Tan Phong Phu Seafood Co., Ltd.
Tan Thanh Loi Frozen Food Co., Ltd.
Tay Do Seafood Enterprise
Thanh Doan Fisheries Import-Export Joint Stock Company (aka THADIMEXCO)
Thai Hoa Foods Joint Stock Company
Thai Minh Long Seafood Company Limited
Thanh Doan Seafood Import Export Trading Joint-Stock Company
The Light Seafood Company Limited
Thien Phu Export Seafood
Thinh Phu Aquatic Product Trading Company Limited
Tho Phat Food Processing One Co., Ltd.
Thong Thuan Cam Ranh Seafood Joint Stock Company
Thong Thuan Company Limited
Thong Thuan Phat Co., Ltd.
Thong Thuan Tra Vinh Seafood Joint Stock Company
Thuan Du Private Enterprise
Thuan Duc Import Export Trading Co., Ltd.
Thuan Phat Seafood Company Limited
Thuan Phuoc Seafoods and Trading Corporation
Thuan Thien Producing Trading Limited Company
Tin An Seafood Factory
Tin Thinh Co., Ltd.
TPP Co. Ltd.
Tra Kha Seafood Processing Factory
Trang Joint Stock Company (aka Trang Corporation (Vietnam))
Trang Khanh Seafood Co., Ltd.
Trong Duc Seafood Co., Ltd
Trong Nhan Seafood Co., Ltd.
Trung Son Seafood Processing Joint Stock Company
Truong Phu Seafoods Joint Stock Company
UTXI Aquatic Products Processing Corporation (aka UTXICO)
Viet Asia Foods Company Limited (aka VAFCO)
Van Duc Food Company Limited
Viet Foods Co., Ltd.
Viet Hai Seafood Co., Ltd.
Viet I-Mei Frozen Foods Co., Ltd
Vietnam Clean Seafood Corporation (aka Vina Cleanfood)
Viet Phu Foods and Fish Corp.
Viet Shrimp Corporation
Vietnam Fish One Co., Ltd.
Vietnam Rich Beauty Food Co., Ltd.
Vinh Hoan Corp.
Vinh Phat Food Joint Stock Company (aka VIFAFOOD)
Western Foods Company Limited
XNK Thinh Phat Processing Company
THE PEOPLE'S REPUBLIC OF CHINA: Crystalline Silicon Photovoltaic Cells, Whether Or Not Assembled Into Modules, C-570-980 | 1/1/24-12/31/24
Anji Dasol Solar Energy Science & Technology Co., Ltd.
Astronergy Co., Ltd.
Astronergy New Energy Technology (Singapore) PTE. Ltd
Astronergy Solar
Baoding Jiasheng Photovoltaic Technology Co., Ltd.
Baoding Tianwei Yingli New Energy Resources Co., Ltd.
Baotou JA Solar Technology Co., Ltd.; Beijing JA Solar PV Technology Co., Ltd.; Beijing Jinfeng Investment Co., Ltd.; Donghai JA Solar Technology Co., Ltd.; Donghai JingAo Solar Energy Science and Technology Co., Ltd.; Hebei Jingle Optoelectronic Technology Co., Ltd.; Hebei Jinglong New Materials Technology Group Co., Ltd.; Hebei Jinglong Sun Equipment Co. Ltd.; Hebei Ningjin Songgong Semiconductor Co., Ltd.; Hebei Ningtong Electronic Materials Co., Ltd.; Hebei Yujing Electronic Science and Technology Co., Ltd.; Hefei JA Solar Technology Co., Ltd.; JA (Hefei) Renewable Energy Co., Ltd; JA PV Technology Co., Ltd.; JA Solar (Xingtai) Co., Ltd.; JA Solar Investment China Co., Ltd; JA Solar Technology Co., Ltd.; JA Solar Technology Yangzhou Co., Ltd.; Jing Hai Yang Semiconductor Material (Donghai) Co., Ltd.; JingAo Solar Co., Ltd.; Jinglong Industry and Commerce Group Co., Ltd.; Jinglong Technology Holdings Co., Ltd.; Jingwei Electronic Materials Co., Ltd.; Ningjin County Jing Tai Fu Technology Co., Ltd.; Ningjin County Jingyuan New Energy Investment Co., Ltd.; Ningjin Guiguang Electronics Investment Co., Ltd.; Ningjin Jinglong PV Industry Investment Co., Ltd.; Ningjin Jingxing Electronic Material Co., Ltd.; Ningjin Longxin Investment Co., Ltd.; Ningjin Saimei Ganglong Electronic Materials Co., Ltd.; Ningjin Songgong Electronic Materials Co., Ltd.; Shanghai JA Solar Technology Co., Ltd.; Solar Silicon Peak Electronic Science and Technology Co., Ltd.; Solar Silicon Valley Electronic Science and Technology Co., Ltd.; Taicang Juren PV Material Co., Ltd.; Xingtai Jinglong Electronic Material Co., Ltd.; Xingtai Jinglong New Energy Co., Ltd.; Xingtai Jinglong PV Materials Co., Ltd.
Beijing Tianneng Yingli New Energy Resources Co., Ltd.
Boviet Solar Technology Co., Ltd.
BYD (Shangluo) Industrial Co., Ltd.; Shanghai BYD Co., Ltd.; BYD Company Ltd.
BYD (H.K.) Co., Ltd.
Canadian Solar Inc.; Canadian Solar Manufacturing (Changshu) Inc.; Canadian Solar Manufacturing (Luoyang) Inc.; Changshu Tegu New Materials Technology Co., Ltd.; Changshu Tlian Co., Ltd.; CSI Cells Co., Ltd.; CSI New Energy Holding Co., Ltd.; CSI Solar Manufacture Inc.; CSI Solar Power (China) Inc.; CSI Solar Technologies Inc.; CSI Solartronics (Changshu) Co., Ltd.; CSI-GCL Solar Manufacturing (Yancheng) Co., Ltd.; Suzhou Sanysolar Materials Technology Co., Ltd.; Changshu Tegu New Material Technology Co., Ltd.
Canadian Solar International Limited
Canadian Solar Manufacturing (Thailand) Co., Ltd.
Changzhou Trina Hezhong Photoelectric Co., Ltd.
Changzhou Trina PV Ribbon Materials Co., Ltd.; Changzhou Trina Solar Energy Co., Ltd.; Changzhou Trina Solar Yabang Energy Co., Ltd.; Hubei Trina Solar Energy Co., Ltd.; Trina Solar (Changzhou) Science and Technology Co., Ltd.; Trina Solar Co., Ltd.; Turpan Trina Solar Energy Co., Ltd.; Yancheng Trina Solar Energy Technology Co., Ltd.
Chint Solar (Hong Kong) Company Limited
Chint Solar (Zhejiang) Co., Ltd.; Chint New Energy Technology Co., Ltd.; Haining Chint Solar Energy Technology Co., Ltd.; Chint New Energy Technology (Yancheng) Co., Ltd.; Chint Solar (Yancheng) Co., Ltd.; Jiuquan Chint New Energy Technology Co., Ltd.; Chint Group Co., Ltd.; Zhejiang Chint Electrics Co., Ltd.; Zhejiang Chint New Energy Development Co., Ltd.; Chint Solar (Jiuquan) Co., Ltd.; Chint Solar (Shanghai) Co., Ltd.
CSI Modules (Dafeng) Co., Ltd.
CSI Solar Co., Ltd.
CSI Solar Manufacturing (Fu Ning) Co., Ltd.
DelSolar (Wujiang) Ltd.
DelSolar Co., Ltd.
De-Tech Trading Limited HK
Dongguan Sunworth Solar Energy Co., Ltd.
Eoplly New Energy Technology Co., Ltd.
ERA Solar Co., Ltd.
ET Solar Energy Limited
ET Solar Technology (Vietnam) Company
Fuzhou Sunmodo New Energy Equipment Co., Ltd.
GCL System Integration Technology Co. Ltd
Hainan Yingli New Energy Resources Co., Ltd.
Hangzhou Sunny Energy Science and Technology Co., Ltd.
Hengdian Group DMEGC Magnetics Co. Ltd.
Hengshui Yingli New Energy Resources Co., Ltd.
Hongkong Hello Tech Energy Co., Ltd.
Imperial Star Solar (Cambodia) Co. LTD
JA Solar International Limited
JA Solar Malaysia SDN BDH
JA Solar PV Vietnam Company Limited
JA Solar Vietnam Company Limited
JA Technology Yangzhou Co., Ltd.
Jiangsu High Hope Intl Group; High Hope Zhongtian Corporation; Jiangsu Suhui Asset Management Co., Ltd.; Jiangsu Highhope International Group Corporation
Jiangsu Jinko Tiansheng Solar Co., Ltd.
Jinko Solar (Haining) Co., Ltd.
Jinko Solar (Malaysia) Sdn. Bhd.
Jinko Solar (Vietnam) Industries Company Limited
Jinko Solar Import And Export Co., Ltd.; Jinko Solar Co., Ltd.; Zhejiang Jinko Solar Co., Ltd.; Jiangxi Jinko Photovoltaic Materials Co., Ltd.; Xinjiang Jinko Solar Co., Ltd.; JinkoSolar (Chuzhou) Co., Ltd.; JinkoSolar (Shangrao) Co., Ltd.; JinkoSolar (Sichuan) Co., Ltd.; JinkoSolar (Yiwu) Co., Ltd.; JinkoSolar Technology (Haining) Co., Ltd.; Ruixu Industrial Co., Ltd.; Yuhuan Jinko Solar Co., Ltd.; Jinko Solar (Shanghai) Management Co., Ltd.
Jinko Solar International Limited
Jinko Solar Technology Sdn. Bhd.
Jinkosolar Middle East DMCC
Letsolar Vietnam Company Limited
Light & Hope Energy Co, Ltd.
Lightway Green New Energy Co., Ltd.; Light Way Green New Energy Co., Ltd.
Lixian Yingli New Energy Resources Co., Ltd.
Longi (HK) Trading Ltd.
LONGi Malaysia Sdn. Bhd.
Longi Solar Technology (HK) Limited
LONGi Solar Technology Co., Ltd.; LERRI Solar Technology Co., Ltd.
Luoyang Suntech Power Co., Ltd.
M.L.T. Solar Energy Product Co., Ltd.
Nexuns Vietnam Company Limited
Nice Sun PV Co., Ltd.
Ningbo ETDZ Holdings, Ltd.
Red Sun Energy Long An Company Limited
ReneSola Jiangsu Ltd.
Renesola Zhejiang Ltd.
Risen Energy Co., Ltd.; Risen (Wuhai) New Energy Co., Ltd.; Zhejiang Twinsel Electronic Technology Co., Ltd.; Risen (Luoyang) New Energy Co., Ltd.; Risen Energy (Changzhou) Co., Ltd.; Risen Energy (Yiwu) Co., Ltd.; Zhejiang Boxin Investment Co., Ltd.; Jiangsu Sveck New Material Co., Ltd.; Changzhou Sveck Photovoltaic New Material Co., Ltd. (including Changzhou Sveck Photovoltaic New Material Co., Ltd. Jintan Danfeng Road Branch); Changzhou Sveck New Material Technology Co., Ltd.; Ninghai Risen Energy Power Development Co., Ltd.; Risen (Ningbo) Electric Power Development Co., Ltd.; Risen Energy (Ningbo) Co., Ltd.; Changzhou Jintan Ningsheng Electricity Power Co., Ltd.; Risen (Changzhou) Import and Export Co., Ltd.; Jiujiang Shengchao Xinye Technology Co., Ltd.; Jiujiang Shengchao Xinye Trade Co., Ltd. Ruichang Branch.
Runergy PV Technology (Thailand) Co., Ltd.
Shanghai Nimble Co. Ltd.
Shenzhen Sungold Solar Co., Ltd.
Shenzhen Topray Solar Co., Ltd.
Shenzhen Yingli New Energy Resources Co., Ltd.
Sumec Hardware & Tools Co., Ltd.
Sunmax Energy (M) Sdn Bhd
Sunpreme Solar Technology (Jiaxing) Co., Ltd.
Suntech Power Co., Ltd.
Suntimes Technology Co., Limited
Systemes Versilis, Inc.
Taimax Technologies Inc.
Tainergy Tech Co., Ltd.
Taizhou BD Trade Co., Ltd.
Talesun Energy
Talesun Solar
Talesun Technologies (Thailand) Co., Ltd.
tenKsolar (Shanghai) Co., Ltd.
Tianjin Yingli New Energy Resources Co., Ltd.
Toenergy Technology Hangzhou Co., Ltd.
Trina Solar (Hefei) Science and Technology Co., Ltd.
Trina Solar Energy Development Company Limited
Trina Solar Science & Technology (Thailand) Ltd.
Vietnam Sunergy Cell Company Limited
Vietnam Sunergy Joint Stock Company
Vietnergy Co., Ltd.
Vina Cell Technology Co., Ltd
Vina Solar Technology Co Ltd
Wuxi Suntech Power Co., Ltd.
Wuxi Tianran Photovoltaic Co., Ltd.
Yingli Energy (China) Co., Ltd.
Yingli Green Energy International Trading Company Limited
Zhejiang ERA Solar Technology Co., Ltd.
Zhejiang Sunflower Light Energy Science & Technology Limited Liability Company
THE PEOPLE'S REPUBLIC OF CHINA: Mobile Access Equipment and Subassemblies Thereof, C-570-140 | 1/1/24-12/31/24
Aichi Worldwide
Anhui Heli Industrial Vehicle Imp. & Exp. Co., Ltd.
Changzhou Hengxuan Logistics Co., Ltd.
Crown Equipment (Suzhou) Co., Ltd.
Deqing Liguan Machinery Trading Co. Ltd.
Dongguan Tinbo Packing Industrial Co., Ltd.
Everocean International Forwarding Co., Ltd.
GAIM Regiomontana, S.A. de C.V.
Guangxi LiuGong Machinery Co., Ltd.
Guangzhou Eounice Machinery Co., Ltd.
Hangzhou Hengli Metal Processing Co., Ltd.
Hunan Sinoboom Intelligent Equipment Co., Ltd.
Jiaxing Xinfeng Zhong Wang Hydrualic Pressure Accessory Factory
JLG Industries
Leader Technology Co., Ltd
Linyi Lingong Machinery Group Co., Ltd.; Lingong Group Jinan Heavy Machinery Co., Ltd.¹⁰
Mantall Heavy Industry Co., Ltd.
Noblelift Intelligent Equipment Co., Ltd.
Oshkosh JLG (Tianjin) Equipment Technology Co., Ltd.
Sany Marine Heavy Industry Co., Ltd.
Shandong Tavol Machinery Co., Ltd.
Shanghai Full Trans Global Forwarding Co., Ltd.
Shanghai Inter Cooperation Co., Ltd.
Shanghai Xiangcheng Trading Co., Ltd.
Shanghai Xindun Trade Co., Ltd.
Shenzhen Shining Ocean International Logistics Co., Ltd.
Skyjack Inc
Sunward Intelligent Equipment Co.
Terex (Changzhou) Machinery Co., Ltd.
Toyota Material Handling Group
Wuhai Huadong Heavy Industry Foundry Co., Ltd.
XCMG North America Mexican Facility ¹¹
Xuzhou Construction Machinery Group Fire-Fighting Safety Equipment Co., Ltd.
Xuzhou Construction Machinery Group Imp. & Exp. Co., Ltd.
Yantai Carhart Manufacturing Co., Ltd.
Zhejiang Dingli Machinery Co., Ltd.; Zhejiang Green Power Machinery Co., Ltd.; Zhejiang Shengda Fenghe Automotive Equipment Co., Ltd.; Zhejiang Xieheng Intelligent Equipment Co., Ltd.¹²
Zhejiang Smile Tools Co., Ltd.
Zoomlion Heavy Industry Science & Technology Co., Ltd.
Suspension Agreements
MEXICO: Sugar, A-201-845 | 12/1/24-11/30/25
MEXICO: Sugar, C-201-846 | 1/1/25-12/31/25

Duty Absorption Reviews

⁴ Shrimp produced and exported by PT Bahari Makmur Sejati (BMS) was excluded from the order. See Frozen Warmwater Shrimp from Indonesia: Antidumping Duty Order; Frozen Warmwater Shrimp From Ecuador, India, and the Socialist Republic of Vietnam: Countervailing Duty Orders, 89 FR 104982, 104982-83 (December 26, 2024). Accordingly, we are initiating this administrative review with respect to BMS only for subject merchandise shipped outside of the excluded exporter/producer combination.

⁵ Commerce received separate requests for review of PT Sekar Bumi, Tbk, Sekar Bumi, and PT Sekar Bumi Makmur, which we consider to be the same company. See Memorandum, “Similar Company Names in Review Requests,” dated January 30, 2026.

⁶ In the initiation notice published on January 27, 2026 (91 FR 3421), Commerce inadvertently omitted the case number listed above.

⁷ In the initiation notice published on January 5, 2026 (91 FR 229) Commerce inadvertently did not include several companies for which a review was requested for Hot Rolled Steel Flat Products from the Republic of Turkiye. The correct initiation list should also include: Iskenderun Demir ve Celik A.S.; Toscelik Profile and Sheet Ind. Co.; and Toscelik Profil ve Sac A.S.

⁸ Commerce previously determined that Ajmal Steel Tubes & Pipes Ind. L.L.C. and Ajmal Steel Tubes & Pipes Ind. L.L.C.-Branch-1 should be treated as a single entity. See Circular Welded Carbon-Quality Steel Pipe from the United Arab Emirates: Final Results of Antidumping Duty Administrative Review; 2019-2020, 87 FR 41111 (July 11, 2022) (CWP UAE 2019-20). Therefore, we are initiating this administrative review with respect to both companies within the collapsed entity.

⁹ In prior reviews, Commerce treated these companies as a single entity. See, e.g., CWP UAE 2019-20. Absent information to the contrary, we are treating these companies as a single entity for the purpose of this administrative review. Additionally, in Circular Welded Carbon-Quality Steel Pipe from the United Arab Emirates: Final Results of Antidumping Duty Changed Circumstances Review, 89 FR 76087 (September 17, 2024), Commerce determined that Universal Tube and Pipe Industries FZE is the successor-in-interest to Universal Tube and Plastic Industries Limited, effective September 17, 2024.

¹⁰ Commerce previously found Linyi Lingong Machinery Group Co., Ltd. to be a cross-owned affiliate of Lingong Group Jinan Heavy Machinery Co., Ltd. See Certain Mobile Access Equipment and Subassemblies Thereof from the People's Republic of China: Final Affirmative Countervailing Duty Determination, 86 FR 57809 (October 19, 2021). Accordingly, we are initiating this review with respect to Lingong Group Jinan Heavy Machinery Co., Ltd. and its cross-owned entity, Linyi Lingong Machinery Group Co., Ltd., listed in this notice.

¹¹ We also received a request for review of XCMG North America Corporation, an importer of subject merchandise. However, Commerce is not initiating a review with respect to XCMG North America Corporation because it is not an exporter or producer of subject merchandise.

¹² Commerce previously found Zhejiang Green Power Machinery Co., Ltd.; Zhejiang Shengda Fenghe Automotive Equipment Co., Ltd.; and Zhejiang Xieheng Intelligent Equipment Co., Ltd. to be cross-owned affiliates of Zhejiang Dingli Machinery Co., Ltd. See Mobile Access Equipment and Subassemblies Thereof from the People's Republic of China: Amended Final Results of Countervailing Duty Administrative Review; 2022, 91 FR 3121 (January 26, 2026). Accordingly, we are initiating this review with respect to Zhejiang Dingli Machinery Co., Ltd. and its cross-owned entities, Zhejiang Green Power Machinery Co., Ltd.; Zhejiang Shengda Fenghe Automotive Equipment Co., Ltd.; and Zhejiang Xieheng Intelligent Equipment Co., Ltd., listed in this notice.

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹³ available at https://www.govinfo.gov/content/pkg/FR-2013-07-17/pdf/2013-17045.pdf, prior to submitting factual information in this segment. Note that Commerce has amended certain of its requirements pertaining to the service of documents in 19 CFR 351.303(f).¹⁴

¹³ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹⁴ See Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.¹⁵ Commerce intends to reject factual submissions in any proceeding segments if the submitting party does not comply with applicable certification requirements.

¹⁵ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁶ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, standalone submission, and clarifies the circumstances under which Commerce will grant untimely-filed requests for the extension of time limits. Please review the Final Rule, available at https://www.gpo.gov/fdsys/pkg/FR-2013-09-20/html/2013-22853.htm, prior to submitting factual information in these segments.

¹⁶ See 19 CFR 351.302.

Notification to Interested Parties

These initiations and this notice are in accordance with section 751(a) of the Act (19 U.S.C. 1675(a)) and 19 CFR 351.221(c)(1)(i).

Dated: February 13, 2026.
Scot Fullerton,
Acting Deputy Assistant Secretary for Antidumping and Countervailing Duty Operations.

[FR Doc. 2026-03417 Filed 2-19-26; 8:45 am]

BILLING CODE 3510-DS-P